CONSUMER FINANCIAL PROTECTION BUREAU

Consumer Financial Protection Bureau Notice of Availability of Final Environmental Assessment (FINAL EA) and a Finding of No Significant Impact (FONSI) for Renovation and Modernization of the Organization Headquarters Building, Washington, DC

AGENCY: Bureau of Consumer Financial Protection.

ACTION: Notice of Availability of Final Environmental Assessment (FINAL EA) and a Finding of No Significant Impact (FONSI) for Renovation and Modernization of the organization headquarters building located at 1700 G Street NW., Washington, DC.

SUMMARY: The Consumer Financial Protection Bureau (CFPB) is issuing this notice to advise the public that, on January 3, 2013, the CFPB prepared and completed, a Finding of No Significant Impact (FONSI) based on the Final Environmental Assessment (FINAL EA) for the project at 1700 G Street NW., Washington, DC is to modernize the interior and courtyard space of the building. The building is currently used as the headquarters for the Consumer Financial Protection Bureau (CFPB). Originally built in 1976, the building has three below ground levels that extend beneath a large public courtyard (two of which include secured parking) and seven floors above ground with the highest reserved for mechanical equipment. Storefront retail is located at the ground level. The CFPB prepared the final EA, dated July 2013, in accordance with the National Environmental Policy Act (NEPA).

DATES: Comments must be received no later than September 25, 2013. The FONSI and/or Final EA are available as of the publication date of this notice.

ADDRESSES: Interested parties may request copies of the FONSI and/or Final EA, from: Consumer Financial Protection Bureau, Facilities Office—Projects, 1700 G Street NW., Washington, DC, 20552. You may submit comments by any of the following methods:

• Electronic: michael.davis@cfpb.gov.

• Mail/Hand Delivery/Courier: Michael Davis, Project Manager, Consumer Financial Protection Bureau, 1700 G Street NW., Washington, DC 20552. All comments, including attachments and other supporting materials, will become part of the public record and subject to public disclosure. You should submit only information that you wish to make available publicly.

FOR FURTHER INFORMATION CONTACT: Michael Davis, Project Manager, Office of Administrative Operations, at (202) 435-9405.

SUPPLEMENTARY INFORMATION: The Final EA evaluated the future project at 1700 G Street NW., Washington, DC to modernize the interior and courtyard space of the building. The building is currently used as the headquarters for the Consumer Financial Protection Bureau (CFPB). Originally built in 1976, the building has three below ground levels that extend beneath a large public courtyard (two of which include secured parking) and seven floors above ground with the highest reserved for mechanical equipment. Storefront retail is located at the ground level. The Final EA has been prepared in accordance with the National Environmental Policy Act (NEPA) of 1969. Based on the results of the EA, the CFPB has issued a Finding of No Significant Impact (FONSI) indicating that the proposed action will not have a significant impact on the environment. Minimization and mitigating measures will include: Compliance with applicable regulatory laws, procedures, and permits for all construction activities; site review by state historic preservation office before construction to avoid disturbance of any site with the potential for historical significance; and the application of best management practices (BMP) to minimize short term air quality and noise impact during construction activities.

Dated: August 21, 2013.
Christopher D'Angelo,
Chief of Staff, Bureau of Consumer Financial Protection.

[FR Doc. 2013-20896 Filed 8-26-13; 8:45 am]

BILLING CODE 4810-AM-P